DEPARTMENT OF AGRICULTURE

Forest Service

Plumas National Forest; Butte and Plumas Counties, California; Watdog Project

AGENCY: Forest Service, USDA.

ACTION: Notice of intent to prepare a supplement to the environmental impact statement.

SUMMARY: The Forest Service will prepare a supplement to the final Environmental Impact Statement to document and clarify the analysis of environmental effects, primarily in the following resource areas: air quality, rare plants and noxious weeds, economics, fire and fuels, hydrology, recreation, soils, vegetation, and wildlife. Additional maps will be included to provide further information to the public.

DATES: Scoping is not required for supplements to environmental impact statements (40 CFR 1502.9(c)4(4)). The draft supplemental environmental impact statement is expected to be issued in April 2006 and the final supplemental environmental impact statement is expected in July 2006.

ADDRESSES: Plumas National Forest, 159 Lawrence Street, P.O. Box 11500, Quincy, CA 95971; Feather River Ranger District, 875 Mitchell Avenue, Oroville, CA 95965.

FOR FURTHER INFORMATION CONTACT: Susan Joyce, Project Leader, Feather River Ranger District, 875 Mitchell Avenue, Oroville, CA 95965; (530) 534-6500.

SUPPLEMENTARY INFORMATION: This notice of intent to prepare a draft environmental impact statement for this project appeared in the Federal Register on February 10, 2005. The Notice of Availability for the Draft Environmental Impact Statement appeared on June 24, 2005. A Final Environmental Impact Statement and Record of Decision were issued on September 15, 2005. The legal notice of the Record of Decision appeared in the Feather River Bulletin on September 28, 2005. The decision was appealed and later withdrawn by the Responsible Official on December 20, 2005.

Purpose and Need for Action

The purpose and need remain the same as was described in the FEIS. The purpose of and need for the project has several elements: (1) Implement fuels reduction by proposing defensible fuel profile zone (DFPZ) treatments to provide for fire resiliency and improved fire fighter safety; (2) Implement group selection provisions of the HFQLC Act providing for shifting existing conditions towards desired conditions of an uneven-aged (all-aged), multistory, fire-resilient forest and contributing toward community stability; (3) Provide for reduced impacts of the transportation system on forest resources by implementing road relocation or improvements as part of project access. The purpose and need includes the following restoration opportunities: (1) Promote a more natural forest ecosystem with a higher abundance of hardwoods and create openings around existing California black oaks to stimulate natural regeneration; and (2) Provide for healthy aquatic and riparian ecosystems by implementing restoration projects to improve fish passage in streams and restore selected streams and meadows.

Proposed Action

The proposed action and alternatives will remain the same as described in the FEIS. These alternatives include varied levels of fuel treatments, group selection timber harvest, and transportation system improvement.

Responsible Official

Jim Peña, Forest Supervisor, Plumas National Forest, PO Box 11500, Quincy, CA 95971.

Nature of Decision To Be Made

Based on the supplement, the responsible official will decide whether to implement the project based on an alternative in the FEIS or not implement the project at this time.

Early Notice of Importance of Public Participation in Subsequent Environmental Review

A draft supplement environmental impact statement will be prepared for comment. The comment period on the draft supplemental environmental impact statement will be 45 days from the date the Environmental Protection Agency publishes the notice of availability in the Federal Register.

The Forest Service believes, at this early state, it is important to give reviewers notice of several court rulings related to public participation in the environmental review process. First, reviewers of draft supplement environmental impact statements must structure their participation in the environmental review of the proposal so that it is meaningful and alerts an agency to the reviewer's position and contentions. Vermont Yankee Nuclear Power Corp. v. NRDC, 435 U.S. 519, 553 (1978). Also, environmental objections that could be raised at the draft supplemental environmental impact statement stage but that are not raised until after completion the final supplemental environmental impact statement may be waived or dismissed by the courts. City of Angoon v. Hodel, 803 F.2d 1016, 1022 (9th Cir. 1986) and Wisconsin Heritages, Inc. v. Harris, 490 F. Supp. 1334, (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the draft supplemental environmental impact statement should be as specific as possible. It is also helpful if comments refer to specific pages of the draft supplement. Comments may also address the adequacy of the draft supplemental environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: March 6, 2006.
James M. Peña,
Forest Supervisor.

[FR Doc. 06-2988 Filed 3-28-06; 8:45 am]

BILLING CODE 3410-11-M